Title 3—

The President

Proclamation 10326 of December 23, 2021

To Modify the Harmonized Tariff Schedule of the United States and for Other Purposes

By the President of the United States of America

A Proclamation

1. Section 1205(a) of the Omnibus Trade and Competitiveness Act of 1988 (the “1988 Act”) (Public Law 100-418, 102 Stat. 1107, 1150 (19 U.S.C. 3005(a))) directs the United States International Trade Commission (the “Commission”) to keep the Harmonized Tariff Schedule of the United States (HTS) under continuous review and periodically to recommend to the President such modifications to the HTS as the Commission considers necessary or appropriate to accomplish the purposes set forth in that subsection. Pursuant to sections 1205(c) and (d) of the 1988 Act (19 U.S.C. 3005(c) and (d)), the Commission has recommended modifications to the HTS to conform the HTS to amendments made to the International Convention on the Harmonized Commodity Description and Coding System and the Protocol thereto (the “Convention”) and to promote uniform application of the Convention.

2. Section 1206(a) of the 1988 Act (19 U.S.C. 3006(a)) authorizes the President to proclaim modifications to the HTS based on the recommendations of the Commission under section 1205 of the 1988 Act, if the President determines that the modifications are in conformity with United States obligations under the Convention and do not run counter to the national economic interest of the United States. I have determined that the modifications to the HTS proclaimed in this proclamation pursuant to section 1206(a) of the 1988 Act are in conformity with United States obligations under the Convention and do not run counter to the national economic interest of the United States.

3. Presidential Proclamation 6763 of December 23, 1994, implemented, with respect to the United States, the trade agreements resulting from the Uruguay Round of multilateral trade negotiations, including Schedule XX-United States of America, annexed to the Marrakesh Protocol to the General Agreement on Tariffs and Trade 1994 (Schedule XX), that were entered into pursuant to sections 1102(a) and (e) of the 1988 Act (19 U.S.C. 2902(a) and (e)), and approved in section 101(a) of the Uruguay Round Agreements Act (the “URAA”) (Public Law 103-465, 108 Stat. 4809, 4814 (19 U.S.C. 3511(a))).

4. Pursuant to the authority provided in section 111 of the URAA (19 U.S.C. 3521) and sections 1102(a) and (e) of the 1988 Act (19 U.S.C. 2902(a) and (e)), Proclamation 6763 included the staged reductions in rates of duty that the President determined to be necessary or appropriate to carry out the terms of Schedule XX. In order to ensure the continuation of such rates of duty for imported goods under tariff categories that are being modified to reflect the amendments to the Convention, I have determined that additional modifications to the HTS are necessary or appropriate to carry out the duty reductions previously proclaimed, including certain technical or conforming changes within the tariff schedule.

5. Presidential Proclamations 7987 of February 28, 2006; 7991 of March 24, 2006; 7996 of March 31, 2006; 8034 of June 30, 2006; 8111 of February 28, 2007; 8331 of December 23, 2008; and 8536 of June 12, 2010, implemented the Dominican Republic-Central America-United States Free Trade Agreement (CAFTA-DR) with respect to the United States and, pursuant to section 201 of the Dominican Republic-Central America-United States Free Trade Agreement Implementation Act (the “CAFTA-DR Implementation Act”) (Public Law 109-53, 119 Stat. 462, 467 (19 U.S.C. 4031)), the staged reductions in rates of duty that the President determined to be necessary or appropriate to carry out or apply articles 3.3, 3.5, 3.6, 3.21, 3.26, 3.27, and 3.28, and Annexes 3.3 (including the schedule of the United States duty reductions with respect to originating goods), 3.27, and 3.28 of the CAFTA-DR. In order to ensure the continuation of such staged reductions in rates of duty for originating goods under tariff categories that are being modified to reflect the amendments to the Convention, I have determined that additional modifications to the HTS are necessary or appropriate to carry out the duty reductions previously proclaimed.

6. Presidential Proclamation 8341 of January 16, 2009, implemented the United States-Peru Trade Promotion Agreement (USPTPA) with respect to the United States and, pursuant to section 201 of the United States-Peru Trade Promotion Agreement Implementation Act (the “USPTPA Implementation Act”) (Public Law 110-138, 121 Stat. 1455, 1459-1460 (19 U.S.C. 3805 note)), the staged reductions in duty that the President determined to be necessary or appropriate to carry out or apply articles 2.3, 2.5, 2.6, 3.3.13, and Annex 2.3 of the USPTPA. In order to ensure the continuation of such staged reductions in rates of duty for originating goods under tariff categories that are being modified to reflect the amendments to the Convention, I have determined that additional modifications to the HTS are necessary or appropriate to carry out the duty reductions previously proclaimed.

7. Presidential Proclamation 8783 of March 6, 2012, implemented the United States-Korea Free Trade Agreement (USKFTA) with respect to the United States and, pursuant to section 201 of the United States-Korea Free Trade Agreement Implementation Act (the “USKFTA Implementation Act”) (Public Law 112-41, 125 Stat. 428, 432-433 (19 U.S.C. 3805 note)), the staged reductions in duty that the President determined to be necessary or appropriate to carry out or apply articles 2.3, 2.5, 2.6, and the schedule of duty reductions with respect to Korea set forth in Annex 2-B, Annex 4-B, and Annex 22-A of the USKFTA. Presidential Proclamation 9834 of December 21, 2018, modified the staging of duty treatment for specific goods of Korea, pursuant to section 201(b) of the USKFTA Act, in order to maintain the general level of reciprocal and mutually advantageous concessions with respect to Korea provided for by the USKFTA and to carry out an agreement with Korea modifying the staging of duty treatment for those goods. In order to ensure the continuation of such staged reductions in rates of duty for originating goods under tariff categories that are being modified to reflect the amendments to the Convention, I have determined that additional modifications to the HTS are necessary or appropriate to carry out the duty reductions previously proclaimed.

8. Presidential Proclamation 8818 of May 14, 2012, implemented the United States-Colombia Trade Promotion Agreement (USCTPA) with respect to the United States and, pursuant to section 201 of the United States-Colombia Trade Promotion Agreement Implementation Act (the “USCTPA Implementation Act”) (Public Law 112-42, 125 Stat. 462, 466-67 (19 U.S.C. 3805 note)), the staged reductions in duty that the President determined to be necessary or appropriate to carry out or apply articles 2.3, 2.5, 2.6, 3.3.13, and Annex 2.3 of the USCTPA. In order to ensure the continuation of such staged reductions in rates of duty for originating goods under tariff categories that are being modified to reflect the amendments to the Convention, I have determined that additional modifications to the HTS are necessary or appropriate to carry out the duty reductions previously proclaimed. I have also determined that a technical correction to general note 34(o) to the HTS is necessary to provide for the intended tariff treatment accorded under the USCTPA to originating goods of Colombia.

9. Presidential Proclamation 8894 of October 29, 2012, implemented the United States-Panama Trade Promotion Agreement (PTPA) with respect to the United States and, pursuant to section 201 of the United States-Panama Trade Promotion Agreement Implementation Act (the “PTPA Implementation Act”) (Public Law 112-43, 125 Stat. 497, 501-502 (19 U.S.C. 3805 note)), the staged reductions in duty that the President determined to be necessary or appropriate to carry out or apply articles 3.3, 3.5, 3.6, 3.26, 3.27, 3.28, and 3.29, and the schedule of duty reductions with respect to Panama set forth in Annex 3.3 of the PTPA. In order to ensure the continuation of such staged reductions in rates of duty for originating goods under tariff categories that are being modified to reflect the amendments to the Convention, I have determined that additional modifications to the HTS are necessary or appropriate to carry out the duty reductions previously proclaimed.

10. Presidential Proclamation 10053 of June 29, 2020, implemented the Agreement between the United States of America, the United Mexican States, and Canada (USMCA) with respect to the United States and, pursuant to section 103(c)(1) of the United States-Mexico-Canada Agreement Implementation Act (the “USMCA Implementation Act”) (Public Law 116-113, 134 Stat. 11, 16 (19 U.S.C. 4513(c)(1))), it provided for the continuation of duty-free or excise treatment and staged reductions in duties as the President determined to be necessary or appropriate to carry out or apply articles 2.4, 2.5, 2.7, 2.8, 2.9, 2.10, 6.2, and 6.3, the Schedule of the United States to Annex 2-B, including the appendices to that Annex, Annex 2-C, and Annex 6-A of the USMCA. In order to ensure the continuation of such staged reductions in rates of duty for originating goods under tariff categories that are being modified to reflect the amendments to the Convention, I have determined that additional modifications to the HTS are necessary or appropriate to carry out the duty reductions previously proclaimed.

11. The United States Trade Representative, in a Federal Register notice of August 23, 2017 (82 FR 40213), announced the initiation of an investigation into certain acts, policies, and practices of China related to technology transfer, intellectual property, and innovation, pursuant to section 301 of the Trade Act of 1974 (the “Trade Act”) (Public Law 93-618, 88 Stat. 1978, 2041 (19 U.S.C 2411)). The United States Trade Representative announced in a Federal Register notice of April 6, 2018 (83 FR 14906), the determination that China's acts, policies, and practices related to technology transfer, intellectual property, and innovation are actionable under section 301(b) of the Trade Act (19 U.S.C. 2411(b)). The United States Trade Representative announced the determinations, pursuant to sections 301(b), 301(c), and 304(a) of the Trade Act (19 U.S.C. 2411(b), 2411(c), and 2414(a)), that appropriate and feasible action in this investigation includes the imposition of an additional ad valorem duty on products of China in Federal Register notices of June 20, 2018 (83 FR 28711), and August 16, 2018 (83 FR 40823). The United States Trade Representative announced the determinations, pursuant to section 307(a)(1) of the Trade Act (19 U.S.C. 2417(a)(1)), to modify the prior action in this investigation by imposing additional duties on products of China, in a Federal Register notice of September 21, 2018 (83 FR 47974, as modified by notices of September 28, 2018 (83 FR 49153), May 9, 2019 (84 FR 20459), and June 10, 2019 (84 FR 26930), and in a Federal Register notice of August 20, 2019 (84 FR 43304, as modified by notices of August 30, 2019 (84 FR 45821), and January 22, 2020 (85 FR 3741)). In order to ensure the maintenance of such duty rates for goods under tariff categories that are being modified to reflect the amendments to the Convention, I have determined that additional conforming modifications to the HTS are necessary.

12. On April 22, 1985, the United States and Israel entered into the Agreement on the Establishment of a Free Trade Area between the Government of the United States of America and the Government of Israel (USIFTA), which the Congress approved in section 3 of the United States-Israel Free Trade Area Implementation Act of 1985 (the “USIFTA Implementation Act”) (Public Law 99-47, 99 Stat. 82 (19 U.S.C. 2112 note)). Section 4(b) of the USIFTA Implementation Act provides that, whenever the President determines that it is necessary to maintain the general level of reciprocal and mutually advantageous concessions with respect to Israel provided for by the USIFTA, the President may proclaim such withdrawal, suspension, modification, or continuance of any duty, or such continuance of existing duty-free or excise treatment, or such additional duties, as the President determines to be required or appropriate to carry out the USIFTA. In order to maintain the general level of reciprocal and mutually advantageous concessions with respect to agricultural trade with Israel, on July 27, 2004, the United States entered into an agreement with Israel concerning certain aspects of trade in agricultural products during the period January 1, 2004, through December 31, 2008 (United States-Israel Agreement Concerning Certain Aspects of Trade in Agricultural Products (the “2004 Agreement”)).

13. In Presidential Proclamation 7826 of October 4, 2004, the President determined, pursuant to section 4(b) of the USIFTA Implementation Act and consistent with the 2004 Agreement, that, in order to maintain the general level of reciprocal and mutually advantageous concessions with respect to Israel provided for by the USIFTA, it was necessary to provide duty-free access into the United States through December 31, 2008, for specified quantities of certain agricultural products of Israel. Each year from 2008 through 2020, the United States and Israel entered into agreements to extend the period that the 2004 Agreement was in force for 1-year periods to allow additional time for the two governments to conclude an agreement to replace the 2004 Agreement. To carry out the extension agreements, the President in Proclamation 8334 of December 31, 2008; 8467 of December 23, 2009; 8618 of December 21, 2010; 8770 of December 29, 2011; 8921 of December 20, 2012; 9072 of December 23, 2013; 9223 of December 23, 2014; 9383 of December 21, 2015; 9555 of December 15, 2016; 9687 of December 22, 2017; 9834 of December 21, 2018; 9974 of December 26, 2019; and 10128 of December 22, 2020; modified the HTS to provide duty-free access into the United States for specified quantities of certain agricultural products of Israel, each time for an additional 1-year period. On November 22, 2021, the United States entered into an agreement with Israel to extend the period that the 2004 Agreement is in force through December 31, 2022, and to allow for further negotiations on an agreement to replace the 2004 Agreement. Pursuant to section 4(b) of the USIFTA Implementation Act, I have determined that it is necessary, in order to maintain the general level of reciprocal and mutually advantageous concessions with respect to Israel provided for by the USIFTA, to provide duty-free access into the United States through the close of December 31, 2022, for specified quantities of certain agricultural products of Israel.

14. Presidential Proclamation 7747 of December 30, 2003, implemented the United States-Singapore Free Trade Agreement (USSFTA) with respect to the United States and, pursuant to section 201 of the United States-Singapore Free Trade Agreement Implementation Act (the “USSFTA Implementation Act”) (Public Law 108-78, 117 Stat. 948, 952 (19 U.S.C. 3805 note)), incorporated in the HTS the tariff modifications and rules of origin necessary or appropriate to carry out the USSFTA. A technical error was made in the modifications to general note 25 to the HTS. I have determined that a technical correction to general note 25 to the HTS is necessary to provide for the intended tariff treatment accorded under the USSFTA to originating goods of Singapore.

15. In Presidential Proclamation 7350 of October 2, 2000, the President designated Ethiopia, the Republic of Guinea (Guinea), and the Republic of Mali (Mali) as beneficiary sub-Saharan African countries for purposes of section 506A(a)(1) of the Trade Act, as added by section 111(a) of the African Growth and Opportunity Act (the “AGOA”) (title I of Public Law 106-200, 114 Stat. 251, 257-58 (19 U.S.C. 2466a(a)(1))).

16. Section 506A(a)(3) of the Trade Act (19 U.S.C. 2466a(a)(3)) provides that the President shall terminate the designation of a country as a beneficiary sub-Saharan African country for purposes of section 506A if the President determines that the country is not making continual progress in meeting the requirements described in section 506A(a)(1) of the Trade Act.

17. Pursuant to section 506A(a)(3) of the Trade Act, I have determined that Ethiopia, Guinea, and Mali do not meet the requirements described in section 506A(a)(1) of that Act. Accordingly, I have decided to terminate the designation of Ethiopia, Guinea, and Mali as beneficiary sub-Saharan African countries for purposes of section 506A of the Trade Act, effective January 1, 2022.

18. Section 604 of the Trade Act, as amended (19 U.S.C. 2483), authorizes the President to embody in the HTS the substance of the relevant provisions of that Act, and of other acts affecting import treatment, and actions taken thereunder, including the removal, modification, continuance, or imposition of any rate of duty or other import restriction. Section 1206(c) of the 1988 Act, as amended (19 U.S.C. 3006(c)), provides that any modifications proclaimed by the President under section 1206(a) of that Act may not take effect before the thirtieth day after the date on which the text of the proclamation is published in the Federal Register.

NOW, THEREFORE, I, JOSEPH R. BIDEN JR., President of the United States of America, by virtue of the authority vested in me by the Constitution and the laws of the United States of America, including but not limited to sections 1102, 1205, and 1206 of the 1988 Act, section 111 of the URAA, section 201 of the CAFTA-DR Implementation Act, section 201 of the USPTPA Implementation Act, section 201 of the USKFTA Implementation Act, section 201 of the USCTPA Implementation Act, section 201 of the PTPA Implementation Act, section 201 of the USSFTA Implementation Act, section 103(c) of the USMCA Implementation Act, section 301 of the Trade Act, section 4(b) of the USIFTA Implementation Act, section 111(a) of the AGOA, and sections 506A(a)(1), 506A(a)(3), and 604 of the Trade Act, as amended, do proclaim that:

(1) In order to modify the HTS to conform it to the Convention or any amendment thereto recommended for adoption, to promote the uniform application of the Convention, to establish additional subordinate tariff categories, to make technical and conforming changes to existing provisions, and to maintain the duty treatment with respect to actions pursuant to section 301 of the Trade Act, the HTS is modified as set forth in Annexes I, II.A, and II.B of Publication 5240 of the United States International Trade Commission, entitled, “Modifications to the Harmonized Tariff Schedule of the United States under Section 1206 of the Omnibus Trade and Competitiveness Act of 1988 and for Other Purposes” (Publication 5240). Publication 5240 is incorporated by reference into this proclamation.

(2) In order to make a technical correction necessary to provide for the intended tariff treatment accorded under the USCTPA to originating goods under the USCTPA, the HTS is modified as set forth in Annex II.C of Publication 5240.

(3) In order to make a technical correction necessary to provide for the intended tariff treatment accorded under the USSFTA to originating goods under the USSFTA, the HTS is modified as set forth in Annex II.D of Publication 5240.

(4) In order to provide for the continuation of previously proclaimed staged duty reductions in the Rates of Duty 1-Special subcolumn for originating goods of parties to the CAFTA-DR under the CAFTA-DR that are classifiable in the provisions modified by the amendments to the HTS to conform it to the Convention, the HTS is modified as set forth in Annex III of Publication 5240.

(5) In order to provide for the continuation of previously proclaimed staged duty reductions in the Rates of Duty 1-Special subcolumn for originating goods of Peru under the USPTPA that are classifiable in the provisions modified by the amendments to the HTS to conform it to the Convention, the HTS is modified as set forth in Annex IV of Publication 5240.

(6) In order to provide for the continuation of previously proclaimed staged duty reductions in the Rates of Duty 1-Special subcolumn for originating goods of Korea under the USKFTA that are classifiable in the provisions modified by the amendments to the HTS to conform it to the Convention, the HTS is modified as set forth in Annex V of Publication 5240.

(7) In order to provide for the continuation of previously proclaimed staged duty reductions in the Rates of Duty 1-Special subcolumn for originating goods of Colombia under the USCTPA that are classifiable in the provisions modified by the amendments to the HTS to conform it to the Convention, the HTS is modified as set forth in Annex VI of Publication 5240.

(8) In order to provide for the continuation of previously proclaimed staged duty reductions in the Rates of Duty 1-Special subcolumn for originating goods of Panama under the PTPA that are classifiable in the provisions modified by the amendments to the HTS to conform it to the Convention, the HTS is modified as set forth in Annex VII of Publication 5240.

(9) In order to provide for the continuation of previously proclaimed staged duty reductions in the Rates of Duty 1-Special subcolumn for originating goods of Canada and Mexico under the USMCA that are classifiable in the provisions modified by the amendments to the HTS to conform it to the Convention, the HTS is modified as set forth in Annex VIII of Publication 5240.

(10) In order to implement tariff commitments under the 2004 Agreement through December 31, 2022, the HTS is modified as set forth in Annex IX of Publication 5240.

(11) The modifications and technical rectifications to the HTS made by paragraphs (1) through (10) of this proclamation shall enter into effect on the applicable dates set forth in Annexes I through IX of Publication 5240.

(12) The designation of Ethiopia, Guinea, and Mali as beneficiary sub-Saharan African countries for purposes of section 506A of the Trade Act is terminated, effective January 1, 2022.

(13) In order to reflect in the HTS that beginning January 1, 2022, Ethiopia, Guinea, and Mali shall no longer be designated as beneficiary sub-Saharan African countries, general note 16(a) to the HTS is modified by deleting “Ethiopia”, “Republic of Guinea”, and “Republic of Mali (Mali)” from the list of beneficiary sub-Saharan African countries. Note 7(a) to subchapter II and note 1 to subchapter XIX of chapter 98 of the HTS are each modified by deleting “Ethiopia,”, “Guinea,”, and “Mali,” from the list of beneficiary countries. Further, note 2(d) to subchapter XIX of chapter 98 of the HTS is modified by deleting “Ethiopia;”, “Guinea;”, and “Republic of Mali;” from the list of lesser developed beneficiary sub-Saharan African countries.

(14) The modifications to the HTS set forth in paragraph (13) of this proclamation shall be effective with respect to goods entered for consumption, or withdrawn from warehouse for consumption, on or after January 1, 2022.

(15) Any provisions of previous proclamations and Executive Orders that are inconsistent with the actions taken in this proclamation are superseded to the extent of such inconsistency.

IN WITNESS WHEREOF, I have hereunto set my hand this twenty-third day of December, in the year of our Lord two thousand twenty-one, and of the Independence of the United States of America the two hundred and forty-sixth.

[FR Doc. 2021-28334

Filed 12-27-21; 8:45 am]

Billing code 3395-F2-P